NUCLEAR REGULATORY COMMISSION

[Docket No. 72-22-ISFSI; ASLBP No. 97-732-02-ISFSI]

Private Fuel Storage, L.L.C. (Independent Spent Fuel Storage Installation); Notice (Revised Notice of Hearing and of Opportunity To Make Oral or Written Limited Appearance Statements)

June 7, 2000.

The Atomic Safety and Licensing Board hereby provides a revised notice that it will convene an evidentiary hearing to receive testimony and exhibits and allow the cross-examination of witnesses relating to certain matters at issue in this proceeding regarding the June 1997 application of Private Fuel Storage, L.L.C., (PFS) for a license under 10 CFR Part 72 to construct and operate an independent spent fuel storage installation (ISFSI) on the reservation of the Skull Valley Band of Goshute Indians (Skull Valley Band) in Skull Valley, Utah. In addition, the Board gives notice that, in accordance with 10 CFR 2.715(a), it will entertain oral limited appearance statements from members of the public in connection with this proceeding.

A. Revised Information Regarding Location of Evidentiary Hearing

As previously noted in its April 19, 2000 notice (65 FR 24,230 (Apr. 25, 2000)), the Board will conduct an evidentiary hearing on certain issues relating to this proceeding, currently scheduled to include contentions Utah E/Confederated Tribes F, Financial Assurance; Utah H, Inadequate Thermal Design; ¹ Utah R, Emergency Plan; and Utah S, Decommissioning, beginning at 9:30 a.m., on Monday, June 19, 2000. Although the physical location of the hearings remains the same as previously announced—Wasatch Room, Mezzanine Level, 150 West 500 South, Salt Lake City, Utah—the Board has been advised, and the public is hereby notified, that this location is now operated as the Sheraton City Centre Hotel Salt Lake City. With the exception of those days in which the Board is hearing oral limited appearance statements in accordance with section B below or otherwise adjourns the hearing to accommodate scheduling or other administrative purposes, the hearing on these issues shall continue from day-to-day until concluded.

¹ This date, the Board received notice by e-mail transmission from counsel for intervenor State of Utah (State) that the State has decided not to pursue litigation of the contention and will be filing a notice of withdrawal of the contention shortly. Assuming this comes to pass, this issue would not be litigated during this evidentiary hearing.

The public is further advised that, in accordance with 10 CFR 2.790(b)(6), all or part of the sessions regarding contentions Utah H, Utah E/Confederated Tribes F, and Utah S may be closed to the public because the matters at issue may involve the discussion of confidential proprietary information.

B. Revised Information Regarding Oral Limited Appearance Statement Sessions

In its April 19, 2000 notice, the Board provided a proposed schedule for conducting oral limited appearance statement sessions and urged those members of the public who were interested in making oral limited appearances to preregister by May 31, 2000. Based on the interest shown in those preregistrations, the Board has decided to postpone the sessions previously scheduled for June 30 and July 1 at Tooele, Utah, to a later date. The Board anticipates that during the course of this proceeding it will be in Utah for additional evidentiary or other proceedings and intends to reschedule the oral limited appearance statements in the Tooele area for that time.

Accordingly, the Board revises its April 19, 2000 notice to advise the public that the Board will entertain oral limited appearance statements at the times and locations specified below:

1. Date: Friday, June 23, 2000.

Times:

Afternoon Session—1 p.m. to 4 p.m. Mountain Daylight Time (MDT)

Evening Session—7 p.m. to 9:30 p.m. MDT

Location: Sheraton City Centre Hotel Salt Lake City (Note name change), Wasatch Room—Mezzanine Level, 150 West 500 South, Salt Lake City, Utah.

2. Date: Saturday, June 24, 2000.

Times: Afternoon Session—1 p.m. to 4 p.m. MDT.

Location: Same as Session 1 above.

C. Participation Guidelines for Oral Limited Appearance Statements

Any person not a party to, or seeking party status in, the proceeding will be permitted to make an oral statement setting forth his or her position on matters of concern relating to this proceeding. Although these statements do not constitute testimony or evidence, they nonetheless may help the Board and/or the parties in their deliberations in connection with the issues to be considered in this proceeding.

Oral limited appearance statements will be entertained during the hours specified above, or such lesser time as may be necessary to accommodate the speakers who are present. If, however, all scheduled and unscheduled speakers present at a session have made a presentation, the Licensing Board reserves the right to terminate the session before the ending times listed in section B above.

The time allotted for each statement normally will be no more than five minutes, but may be further limited depending on the number of written requests to make an oral statement that are submitted in accordance with section D below and/or the number of persons present at the designated times.

D. Submitting a Request To Make an Oral Limited Appearance Statement

Persons wishing to make an oral statement who have submitted a timely written request to do so will be given priority over those who have not filed such a request. The Board will continue to accept written requests to make an oral statement, which must be mailed, faxed, or sent by e-mail so as to be received by close of business (4:30 p.m. EDT) on Monday, June 19, 2000. The request must specify the date—June 23 or June 24—and, for the June 23 session, the time on that day—afternoon or evening—during which the requester wishes to make an oral statement. Thereafter, all oral statement requests will be handled by registration on-location at the limited appearance sessions, on a first-come, first-served basis as the scheduled time allows. And in this regard, the Board notes that requests by the same individual to make an oral statement at more than one of the sessions will be entertained at subsequent sessions after the Board has heard from those individuals who have not yet provided the Board with an oral statement.

Written requests to make an oral statement should be submitted to:

Mail: Office of the Secretary, Rulemakings and Adjudications Staff, U.S. Nuclear Regulatory Commission, Washington, D.C. 20555-0001

Fax: (301) 415-1101 (verification (301) 415-1966)

E-mail: hearingdocket@nrc.gov

In addition, using the same method of service, a copy of the written request to make an oral statement should be sent to the Chairman of this Licensing Board as follows:

Mail: Administrative Judge G. Paul Bollwerk, III, Atomic Safety and Licensing Board Panel, Mail Stop T-3F23, U.S. Nuclear Regulatory Commission, Washington, D.C. 20555-0001

Fax: (301) 415-5599 (verification (301) 415-7550)

E-mail: gpb@nrc.gov

E. Submitting Written Limited Appearance Statements and Availability of Documentary Materials

As the Board has noted previously, a written limited appearance statement can be submitted at any time. Such statements should be sent to the Office of the Secretary using the methods prescribed above, with a copy to the Licensing Board Chairman.

Documents relating to the PFS license application at issue in this proceeding currently are on file at the Commission's Public Document Room, the Gelman Building, 2120 L Street, N.W., Washington, D.C. 20003-1527, and at the University of Utah, Marriott Library, Documents Division, 295 S. 1500 East, Salt Lake City, Utah 84112-0860. Additionally, documents submitted in this proceeding after November 1, 1999, are available electronically through the Agencywide Documents Access and Management System (ADAMS), with access to the public through the NRC's Internet Web site Public Electronic Reading Room Link at <http://www.nrc.gov./NRC/ADAMS/index.html>.

For the Atomic Safety and Licensing Board.²
² Copies of this notice were sent this date by Internet e-mail transmission to counsel for (1) applicant PFS; (2) intervenors Skull Valley Band, Ohngo Gaudadeh Devia, Confederated Tribes of the Goshute Reservation, Southern Utah Wilderness Alliance, and the State; (3) petitioner William D. Peterson; and (4) the NRC staff.
Dated: Rockville, Maryland, June 7, 2000.
G. Paul Bollwerk, III,
Administrative Judge.

[FR Doc. 00-14887 Filed 6-12-00; 8:45 am]

BILLING CODE 7590-01-P